FEDERAL EMERGENCY MANAGEMENT AGENCY

[FEMA-1427-DR]

Federated States of Micronesia; Amendment No. 3 to Notice of a Major Disaster Declaration

AGENCY: Federal Emergency Management Agency (FEMA).

ACTION: Notice.

SUMMARY: This notice amends the notice of a major disaster declaration for the Federated States of Micronesia (FEMA-1427-DR), dated July 11, 2002, and related determinations.

EFFECTIVE DATE: January 31, 2003.

FOR FURTHER INFORMATION CONTACT: Magda Ruiz, Response and Recovery Directorate, Federal Emergency Management Agency, Washington, DC 20472, (202) 646-2705 or Magda.Ruiz@fema.gov.

SUPPLEMENTARY INFORMATION: Notice is hereby given that, in a letter dated January 31, 2003, to Joe M. Allbaugh, Director of the Federal Emergency Management Agency, the President amended the cost-sharing arrangements concerning Federal funds provided under the authority of the Robert T. Stafford Disaster Relief and Emergency Assistance Act (42 U.S.C. 5121-5206 (Stafford Act), as follows:

I have determined that the damage in certain areas of the Federated States of Micronesia, due to damage resulting from Tropical Storm Chata'an, including flooding, mudslides and landslides on July 2-4, 2002, is of sufficient severity and magnitude that special conditions are warranted regarding the cost sharing arrangements concerning Federal funds provided under the Robert T. Stafford Disaster Relief and Emergency Assistance Act, 42 U.S.C. 5121-5206 (Stafford Act).

Therefore, I amend my declaration of July 11, 2002, to authorize Federal funds for Public Assistance, including direct Federal assistance, at 90 percent of total eligible costs.

This adjustment to State and local cost sharing applies only to Public Assistance costs eligible for such adjustment under the law. The law specifically prohibits a similar adjustment for funds provided to States for the Individual and Family Grant program (Section 411), mobile home group site development (Section 408), and the Hazard Mitigation Grant program (Section 404). These funds will continue to be reimbursed at 75 percent of total eligible costs.

Please notify the President of the Federated States of Micronesia and the Federal Coordinating Officer of this amendment to my major disaster declaration.

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.556, Fire Management Assistance; 83.558, Individual and Household Housing; 83.559, Individual and Household Disaster Housing Operations; 83.560 Individual and Household Program-Other Needs, 83.544, Public Assistance Grants; 83.548, Hazard Mitigation Grant Program.)

Joe M. Allbaugh,
Director.

[FR Doc. 03-3672 Filed 2-13-03; 8:45 am]

BILLING CODE 6718-02-P